DEPARTMENT OF EDUCATION

[Docket No.: ED-2018-ICCD-0100]

Agency Information Collection Activities; Submission to the Office of Management and Budget for Review and Approval; Comment Request; Case Service Report (RSA-911)

Correction

In notice document 2019-02373, appearing on page 4459, in the issue of Friday, February 15, 2019 make the following correction:

On page 4459, in the first column, in the DATES section, “February 15, 2019” should read, “March 18, 2019”.

[FR Doc. C1-2019-02373 Filed 2-20-19; 8:45 am]

BILLING CODE 1301-00-D